DEPARTMENT OF THE INTERIOR

U.S. Geological Survey

[GX13EN05ESB0500]

Agency Information Collection Activities: Comment Request

AGENCY: U.S. Geological Survey (USGS), Interior.

ACTION: Notice of an extension of currently approved information Collection, 1028-0096, Department of the Interior Climate Science Centers (DOI CSCs).

SUMMARY: We (the U.S. Geological Survey) will ask the Office of Management and Budget (OMB) to approve the information collection (IC) described below. To comply with the Paperwork Reduction Act of 1995 (PRA) and as part of our continuing efforts to reduce paperwork and respondent burden, we invite the general public and other Federal agencies to take this opportunity to comment on this IC. This collection is scheduled to expire on April 30, 2013.

DATES: Submit written comments by March 12, 2013.

ADDRESSES: You may submit comments on this information collection to the Information Collection Clearance Officer, U.S. Geological Survey, 12201 Sunrise Valley Drive MS 807, Reston, VA 20192 (mail); (703) 648-7199 (fax); or smbaloch@usgs.gov (email). Please Reference Information 1028-0096 in the subject line.

FOR FURTHER INFORMATION CONTACT: Nadine Hartke by mail at U. S. Geological Survey, MS 400 National Center, 12201 Sunrise Valley Drive, Reston, VA 20192, or by telephone at 703-648-4607.

SUPPLEMENTARY INFORMATION: Abstract: The name of this information collection has been updated from “Department of the Interior Regional Climate Science Centers” to “Department of the Interior Climate Science Centers (DOI CSCs).” The primary objective of the National Climate Change and Wildlife Science Center (NCCWSC) is to complete science projects on the effects of climate and global change on fish, wildlife and their habitats. Additionally, the NCCWSC has the responsibility to manage DOI Climate Science Centers that are co-located at cooperating organizations at non-USGS facilities. The DOI CSCs include USGS staff that report to a national USGS office. The NCCWSC works in close partnership with the climate change science and natural and cultural resource management communities to understand high priority science needs and to develop science information tools that can help resource managers develop strategies for responding to climate change. This program provides funding for researchers through cooperative agreements that involve climate change science as a major component.

OMB Control Number: 1028-0096.

Title: Department of the Interior Climate Science Centers.

Respondent Obligation: Voluntary.

Frequency of Collection: Upon release of Program Announcements.

Estimated Annual Number of and Description of Respondents: An estimated 40 institutions of higher education and other non-profit organizations may respond.

Estimated Annual Number of Respondents: 40.

Estimated Completion Time: 20 hours per response.

Estimated Annual Burden Hours: 800 hours.

Estimated Annual Reporting and Recordkeeping “Hour” Burden: We estimate the public reporting will average 20 hours per response. This includes time to develop a technical proposal, budget sheets, perform internal proposal reviews, secure support letters, and submit the proposal through Grants.gov.

Estimated Annual Reporting and Recordkeeping “Non-Hour Cost:” There are no “non-hour cost” burdens associated with this collection of information.

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: January 4, 2013.
T. Douglas Beard, Jr.,
Chief NCCWSC, U.S. Geological Survey.

[FR Doc. 2013-00374 Filed 1-10-13; 8:45 am]

BILLING CODE 4311-AM-P